DEPARTMENT OF THE INTERIOR

Fish and Wildlife Service

[Docket No. FWS-R7-MB-2023-0082; FXMB12610700000-234-FF07M01000; OMB Control Number 1018-0178]

Agency Information Collection Activities; Regulations for the Taking of Migratory Birds for Subsistence Uses in Alaska

AGENCY: Fish and Wildlife Service, Interior.

ACTION: Notice of information collection; request for comment.

SUMMARY: In accordance with the Paperwork Reduction Act of 1995, we, the U.S. Fish and Wildlife Service (Service), are proposing to renew, without change, an information collection.

DATES: Interested persons are invited to submit comments on or before August 25, 2023.

ADDRESSES: Send your comments on the information collection request (ICR) by one of the following methods (reference “1018-0178” in the subject line of your comment):

• Internet (preferred): https://www.regulations.gov. Follow the instructions for submitting comments on Docket No. FWS-R7-MB-2023-0082.

• Email: Info_Coll@fws.gov.

• U.S. mail: Service Information Collection Clearance Officer, U.S. Fish and Wildlife Service, 5275 Leesburg Pike, MS: PRB (JAO/3W), Falls Church, VA 22041-3803.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 and 5 CFR 1320.8(d)(1), we provide the general public and other Federal agencies with an opportunity to comment on new, proposed, revised, and continuing collections of information. This helps us assess the impact of our information collection requirements and minimize the public's reporting burden. It also helps the public understand our information collection requirements and provide the requested data in the desired format.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The Migratory Bird Treaty Act of 1918 (16 U.S.C. 703-712) and the Fish and Wildlife Act of 1956 (16 U.S.C. 742d) designate the Department of the Interior as the key agency responsible for managing migratory bird populations that frequent the United States and for setting harvest regulations that allow for the conservation of those populations. These responsibilities include gathering data on various aspects of migratory bird harvest. We use harvest data to review regulation proposals and to issue harvest regulations.

The Migratory Bird Treaty Act Protocol Amendment (1995) (Amendment) provides for the customary and traditional use of migratory birds and their eggs for subsistence use by Indigenous inhabitants of Alaska. The Amendment states that its intent is not to cause significant increases in the take of species of migratory birds relative to their continental population sizes. A submittal letter from the Department of State to the White House (May 20, 1996) accompanied the Amendment and specified the need for harvest monitoring. The submittal letter stated that the Service, the Alaska Department of Fish and Game (ADF&G), and Alaska Native Organizations would collect harvest information cooperatively within the subsistence-eligible areas. Harvest data help to ensure that customary and traditional subsistence uses of migratory birds and their eggs by Indigenous inhabitants of Alaska do not significantly increase the take of species of migratory birds relative to their continental population sizes.

Information collection currently authorized under the OMB approval number 1018-0178 includes three items related to the spring-summer subsistence harvest of migratory birds in Alaska: (1) invitation of residents of non-eligible regions to participate in harvesting activities in the eligible regions; (2) household registration permit for harvest in the Cordova area; and (3) hunter registration permit for harvest in the Kodiak Island Roaded Area. Harvest monitoring associated to the Cordova and Kodiak permits are authorized under a separate OMB control number (1018-0124).

1. Invitation to Harvest:

• Tribal Council Invitation Letter—Regulations at 50 CFR 92.5(d) allow immediate family members (children, parents, grandparents, and siblings living in excluded areas) of residents of eligible areas to participate in the spring-summer subsistence harvest of migratory birds in a village's subsistence area. The regulations specify that participation of residents of excluded areas in the spring-summer harvest of migratory birds in an eligible area must be pre-authorized by a letter of invitation issued by a local Tribal council within the harvest area.

• Tribal Council Invitation Permit Request—The permit request is another method to invite an immediate family member residing in an excluded area to participate in the spring-summer subsistence hunt in a defined eligible area. The permit, issued by the Tribal Council, certifies that the prospective hunter is an immediate family member as defined in 50 CFR 92.4 and is thereby authorized to assist family members in hunting migratory birds in a defined subsistence harvest area. The permit is valid for 2 years from the date of issuance.

• Tribal Council Notification to Alaska Migratory Bird Co-Management Council (AMBCC)—Tribal councils will provide copies of all letters of invitation regarding the invitation to hunt and of all issued permits to the Executive Director of the AMBCC.

• AMBCC Notification to AK Region Office of Law Enforcement—Upon receiving copies of the letters of invitation and of issued permits from Tribal Councils, the AMBCC Executive Director will inform the Service's Alaska Regional Office of Law Enforcement (AK-OLE) within 2 business days.

2. Cordova Harvest Household Registration Permit—The Service's final rule published on April 8, 2014 (79 FR 19454) authorized spring-summer harvest of migratory birds by residents of the community of Cordova in the Gulf of Alaska region. In 2017, the regulations were updated to allow residents of the neighboring communities of Tatitlek and Chenega to harvest in the area defined for the Cordova harvest (April 4, 2017; 82 FR 16298). Local partners, including the Eyak Tribe and the U.S. Forest Service (USFS) Cordova Office's Chugach Subsistence Program, worked in close collaboration with the ADF&G Division of Subsistence to develop a household registration and harvest monitoring system using a post-season mail survey. Household registrations are issued by the Tribal Councils of the communities of Cordova, Tatitlek, and Chenega, as well as by the USFS Cordova Office's Chugach Subsistence Program. The registration form includes fields to write the permit holder's name and mailing address, as well as a field for the permit holder to sign acknowledging the terms of the permit. The permit also has fields to write the names of other household members authorized to harvest under the registration. Registration data are securely disposed of after completion of the annual harvest data collection and analysis.

3. Kodiak Island Roaded Area Hunter Registration Permit—On April 19, 2021, we issued a final rule (RIN 1018-BF08, 86 FR 20311) that allows migratory bird hunting and egg gathering by registration permit in the Kodiak Island Roaded Area in the Kodiak Archipelago Region of Alaska for a 3-year experimental season (2021-2023), after which time the regulation will sunset. We developed regulations for the spring-summer subsistence harvest of migratory birds in the Kodiak Island Roaded Area (final rule RIN 1018-BF08; 86 FR 20311) under a co-management process involving the Service, the ADF&G, and Alaska Native representatives. These regulations include a permit and harvest reporting system developed in collaboration with the AMBCC local partner, the Sun'aq Tribe of Kodiak. The intent of this rule was to allow all residents of the Kodiak Archipelago Region the opportunity to participate in subsistence hunting activities without the need for a watercraft. Previous regulations closed the Roaded Area to all subsistence migratory bird hunting and egg gathering, but allowed these activities in adjacent marine waters beyond 500 feet from shore, including offshore islands, where access requires a watercraft. The mandatory registration permit and the mandatory reporting of hunter activity and harvest in the 2021-2023 experimental hunt will allow estimation of hunter participation, bird and egg harvest, and harvest composition. These data will inform a potential proposal and decision to reopen the Roaded Area to subsistence hunting in the future. To protect species of conservation concern, spring-summer subsistence hunting and egg gathering for Arctic terns, Aleutian terns, mew gulls, and emperor geese will remain closed in the Roaded Area.

Results of harvest monitoring for the 3-year experimental season are expected to be available in fall 2023 for review by the Sun'aq Tribe and other members of the AMBCC, who will make a recommendation on whether to continue the Kodiak Island Roaded Area hunt and whether to continue the requirement for the hunter registration permit and harvest reporting. Based on such forthcoming recommendation, corresponding changes to harvest regulations, if approved, could be implemented for the 2025 Alaska spring-summer migratory bird subsistence harvest season.

Enforcement of regulations for the Kodiak Island Roaded Area will be the responsibility of the Service's Office of Law Enforcement. Enforcement personnel are aware of cultural and traditional practices of migratory bird subsistence harvest by rural residents of Alaska who are eligible to participate for this permit hunt concurrent with the need to ensure conservation of migratory birds, particularly species of conservation concern; of the necessary adherence to specific regulations requiring a permit and mandatory harvest reporting; and that hunting and egg gathering of Arctic terns, Aleutian terns, mew gulls, and emperor geese will remain closed in the Kodiak Island Roaded Area.

The Sun'aq Tribe of Kodiak worked in close collaboration with the ADF&G Division of Subsistence to develop a permit and harvest monitoring system. Permits are issued by the Sun'aq Tribe of Kodiak to individual harvesters. The Sun'aq Tribe provides copies of issued permits to the ADF&G Division of Subsistence, which uses this information to manage the harvest reporting system. The permit includes fields to write the permit holder's name and mailing address, as well as a field for the permit holder to sign acknowledging the terms of the permit. The permit also includes a map of the harvest area and description of the harvest regulations, including the list of species open to harvest. Permit data are securely disposed of after completion of the annual harvest data collection and analysis.

You may request copies of the referenced permit applications by submitting a request to the Service Information Collection Clearance Officer using one of the methods identified in the ADDRESSES section of this notice.

Title of Collection: Regulations for the Taking of Migratory Birds for Subsistence Uses in Alaska, 50 CFR part 92.

OMB Control Number: 1018-0178.

Form Number: None.

Type of Review: Extension of a currently approved collection.

Respondents/Affected Public: Individuals/households and Tribal governments within subsistence-eligible areas of Alaska.

Respondent's Obligation: Required to obtain or retain a benefit.

Frequency of Collection: Annually.

Total Estimated Annual Nonhour Burden Cost: None.

Activity/respondents | Average number of annual respondents | Average number of submissions each | Average number of annual responses | Completion time per response (min) | Total annual burden hours *
Tribal Council Invitation Letter (50 CFR 92.5)
Tribal Governments | 1 | 1 | 1 | 30 | 1
Tribal Council Invitation Permit Request (50 CFR 92.5)
Tribal Governments | 1 | 1 | 1 | 30 | 1
Tribal Council Notification to AMBCC (50 CFR 92.5)
Tribal Governments | 1 | 1 | 1 | 30 | 1
Kodiak Island Roaded Area Hunter Registration Permit (50 CFR 92.31)
Individuals | 200 | 1 | 200 | 15 | 50
Cordova Household Registration Permit (50 CFR 92.31)
Individuals | 30 | 1 | 30 | 15 | 8
Totals | 234 |  | 234 |  | 62
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-13432 Filed 6-23-23; 8:45 am]

BILLING CODE 4333-15-P